DEPARTMENT OF COMMERCE

International Trade Administration

[A-570-822]

Certain Helical Spring Lock Washers From the People's Republic of China: Notice of Extension of Time Limit for the Preliminary Results of the Sixth Administrative Antidumping Review

AGENCY: Import Administration, International Trade Administration, Department of Commerce.

SUMMARY: The Department of Commerce is extending the time limit for the preliminary results of the sixth administrative review of the antidumping duty order on certain helical spring lock washers from the People's Republic of China. The period of review is October 1, 1998 through September 30, 1999.

EFFECTIVE DATE: June 15, 2000.

FOR FURTHER INFORMATION CONTACT: Sally Hastings or Annika O'Hara, Office of AD/CVD Enforcement I, Import Administration, U.S. Department of Commerce, 14th Street and Constitution Avenue, NW, Washington, DC 20230; telephone (202) 482-3464 or (202) 482-3798, respectively.

SUPPLEMENTARY INFORMATION:

Applicable Statute

Unless otherwise indicated, all citations to the statute are references to the provisions effective January 1, 1995, the effective date of the amendments made to the Tariff Act of 1930 (the Act) by the Uruguay Round Agreements Act. Unless otherwise indicated, all citations to the Department of Commerce's (the Department's) regulations are to 19 CFR part 351 (1999).

Background

On December 3, 1999, the Department initiated the sixth antidumping duty administrative review of certain helical spring lock washers from the People's Republic of China, covering October 1, 1998 to September 30, 1999. See Initiation of Antidumping and Countervailing Duty Administrative Reviews, 64 FR 67846 (December 3, 1999). The preliminary results are currently due on July 3, 2000.

Statutory Time Limits

Section 751(a)(3)(A) of the Act requires the Department to issue the preliminary results within 245 days after the last day of the anniversary month of the order for which a review is requested. However, if it is not practicable to issue the preliminary results within the time period, section 751(a)(3)(A) of the Act allows the Department to extend this deadline to a maximum of 365 days.

Postponement

Because verification is being conducted, the Department has determined that additional time is necessary to issue the preliminary results in this administrative review. Therefore, in accordance with section 751(a)(3)(A) of the Act, we are postponing the preliminary results of this administrative review for 60 days, until no later than August 31, 2000.

This notice is published pursuant to sections 751(a)(1) and 777(i)(1) of the Act.

Dated: June 9, 2000.
Richard W. Moreland,
Deputy Assistant Secretary for Import Administration.

[FR Doc. 00-15196 Filed 6-14-00; 8:45 am]

BILLING CODE 3510-DS-P